DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by April 12, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

Applicant: New York State Museum, Albany, NY, PRT-146078.

The applicant requests a permit to import from the Smithsonian Tropical Research Institute, Panama, salvaged skeletons and skulls from animals found dead on Barro Colorado Island, Panama of the following species: howler monkey (Alouatta palliata), Baird's tapir (Tapirus bairdii), and ocelot (Leopardus pardalis) for the purpose of scientific research.

Applicant: Dr. Mary K. Gonder, University of Maryland, Dept. of Biology, College Park, MD, PRT-146529.

The applicant requests a permit to import DNA samples taken from the blood of captive-held chimpanzees (Pan troglodytes) at the Limbe Wildlife Centre, Limbe, Cameroon, for the purpose of scientific research.

Applicant: Tom W. Veurink, Alto, MI, PRT-145874.

The applicant requests a permit to import the sport-hunted trophy of one cheetah (Acinonyx jubatus) taken in Namibia for the purpose of enhancement of the survival of the species.

Applicant: Gary F. Bogner, N. Muskeyon, MI, PRT-120003.

The applicant requests a permit to import the sport-hunted trophy of one male bontebok (Damaliscus pygargus pygargus) culled from a captive herd maintained under the management program of the Republic of South Africa, for the purpose of enhancement of the survival of the species.

Dated: February 16, 2007.
Monica Farris,
Senior Permit Biologist, Branch of Permits, Division of Management Authority.

[FR Doc. E7-4519 Filed 3-12-07; 8:45 am]

BILLING CODE 4310-55-P